SOCIAL SECURITY ADMINISTRATION

[Docket No: SSA-2023-0043]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections, and one new information collection for OMB-approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974

(SSA), Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items.

Please reference Docket ID Number [SSA-2023-0043] in your submitted response.

I. The information collections below are pending at SSA. SSA will submit them to OMB within 60 days from the date of this notice. To be sure we consider your comments, we must receive them no later than January 16, 2024. Individuals can obtain copies of the collection instruments by writing to the above email address.

1. Beyond Benefits Study (BBS)—0960-NEW. The BBS will provide SSA with information regarding the needs of individuals who, due to medical improvement or a change in eligibility, have “exited” (called Exiters), or are likely to “exit” (called Possible Exiters) the Social Security Disability Insurance (SSDI) program, the Supplemental Security Income (SSI) program, or both. The BBS will provide SSA with a clearer understanding of the challenges and needs of the target population as Exiters leave the safety net and security of disability benefits and attempt to return to work. SSA will use the findings from the BBS to identify potential interventions and policies to help Exiters and Possible Exiters achieve sustainable, substantial work leading to self-sufficiency.

In seeking to understand the needs (e.g., service, medical, and employment) of Exiters and Possible Exiters, the study aims to answer three primary research questions: (1) what are the service, medical, and employment needs required to achieve sustainable, substantive employment among individuals who exit SSDI/SSI programs; (2) what are the types of services, resources, and interventions that will help exiting individuals obtain and retain employment, and should SSA consider a larger test study; and (3) what policy recommendations will facilitate substantive and sustainable employment among individuals who exit SSDI/SSI programs?

The BBS will help SSA answer these questions by collecting data through surveys, interviews, and focus groups. Quantitative data collection via the survey will include 4,000 participants stratified by exit status and other criteria. The sample will include 2,000 Possible Exiters, 1,000 Short-term Exiters (have exited within the last year), and 1,000 Long-term Exiters (have exited within the last 1-5 years) with 75% of respondents in each group having a high-scoring likelihood of medical improvement based on the Continuing Disability Review (CDR) profiling model. The sample will be further stratified by program type (SSDI versus SSI) and by recommended determinants of self-sufficiency (e.g., age, type of impairment, and urban or rural locality).

The Motivational Interviewing Pilot Test will recruit 50 Exiters to participate in six sessions. During these sessions, motivational interviewers assess each participant's readiness to return to work using a standardized screener and explore the interest and motivation relating to obtaining and retaining employment as well as career advancement. Participants who drop out after the first session will be replaced.

Data collection via the interviews and focus groups will include (1) qualitative in-depth interviews with Exiters and Possible Exiters (70 individuals); (2) ten focus groups with Exiters and Possible Exiters (140 individuals, total); (3) two focus groups with service providers (20 individuals, total); (4) in-depth interviews with state and agency leadership (30 individuals); and, (5) a focus group with the motivational interview (MI) practitioners (five individuals). The respondents are individuals who have volunteered to take part in the study and are exiting (Exiters) or may be exiting (Possible Exiters) SSA's disability program(s) due to medical improvement or changes in eligibility; vocational service providers; state and agency leadership; and motivational interviewers.

Type of Request: Request for a new information collection.

Study component | Number of respondents | Frequency of responses | Average burden per response (minutes) | Total burden hours | Average theoretical hourly cost amount (dollars) * | Total annual opportunity cost (dollars) **
Interviews with Exiters and Possible Exiters (icl. Informed consent and pre-collection questions) | 70 | 1 | 65 | 76 | * $12.81 | ** $974
Focus groups with Exiters and Possible Exiters (icl. Informed consent and pre-collection questions) | 140 | 1 | 65 | 152 | * 12.81 | ** 1,947
Focus group with service providers (icl. Informed consent and pre-collection questions) | 20 | 1 | 65 | 22 | * 24 | ** 528
Focus group with motivational interviewer practitioners (icl. Informed consent) | 5 | 1 | 65 | 5 | * 35 | ** 175
In-depth interviews with state and agency leadership (icl. Informed consent and pre-collection questions) | 30 | 1 | 65 | 33 | * 56 | ** 1,848
Survey (icl. Informed consent and pre-collection questions) | 4,000 | 1 | 50 | 3,333 | * 12.81 | ** 42,696
MI Pilot (icl. Informed consent and pre-collection questions) | 50 | 6 | 60 | 300 | * 12.81 | ** 3,843
Total | 4,315 | 4,565 |  | 3,921 |  | ** 52,011
* We base this figure on average DI payments wages for disability recipients as reported by SSA data (https://www.ssa.gov/legislation/2023factsheet.pdf).
** This figure does not represent actual costs that SSA is imposing on recipients of Social Security payments to complete this application; rather, these are theoretical opportunity costs for the additional time respondents will spend to complete the application. There is no actual charge to respondents to complete the application.

2. Help America Vote Act—0960-0706. House Rule 3295, the Help America Vote Act of 2002, mandates that States verify the identities of newly registered voters. When newly registered voters do not have driver's licenses or State-issued ID cards, they must supply the last four digits of their Social Security number to their local State election agencies for verification. The election agencies forward this information to their State Motor Vehicle Administration (MVA) and the State MVA inputs the data into the American Association of MVAs, a central consolidation system that routes the voter data to SSA's Help America Vote Verification (HAVV) system. Once SSA's HAVV system confirms the identity of the voter, the information returns along the same route in reverse until it reaches the State election agency. The respondents are the State MVAs seeking to confirm voter identities.

Type of Request: Revision of an OMB-approved information collection.

Modality of completion | Number of respondents | Frequency of response | Number of responses | Average burden per response (minutes) | Estimated total annual burden (hours) | Average theoretical hourly cost amount (dollars) * | Total annual opportunity cost (dollars) **
HAVV | 48 | 102,200 | 4,905,600 | 2 | 163,520 | $22.07 * | $3,608,886 **
* We based this figure on average local government information and records clerk's salary shown on the Bureau of Labor Statistic's website (https://www.bls.gov/oes/current/oes434199.htm).
** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than December 15, 2023. Individuals can obtain copies of these OMB clearance packages by writing to the OR.Reports.Clearance@ssa.gov.

1. Application for a Social Security Number (SSN) Card, the Social Security Number Application Process (SSNAP), and Internet SSN Replacement Card (iSSNRC) Application—20 CFR 422.103-422.110—0960-0066. SSA collects information on the SS-5 (used in the United States) and SS-5-FS (used outside the United States) to issue original or replacement Social Security cards. SSA also enters the application data into the SSNAP application when issuing a card via telephone or in person. In addition, hospitals collect the same information on SSA's behalf for newborn children through the Enumeration at Birth (EAB) process. In this process, parents of newborns provide hospital birth registration clerks with information required to register these newborns. Hospitals send this information to State Bureaus of Vital Statistics (BVS), and they send the information to SSA's National Computer Center. SSA then uploads the data to the SSA mainframe along with all other enumeration data, and we assign the newborn a SSN and issue a Social Security card. The vast majority of applications for original SSN cards utilize EAB. In addition, the iSSNRC internet application collects information similar to the paper SS-5 for no-change replacement SSN cards for adult U.S. citizens. The iSSNRC modality allows certain applicants for SSN replacement cards to complete the internet application and submit the required evidence online rather than completing a paper Form SS-5. Finally, oSSNAP collects information similar to that which we collect on the paper SS-5 for no change situations, with the exception of name change, new or replacement SSN cards for U.S. Citizens (adult and minor children), and replacement cards only for non-U.S. citizens. oSSNAP allows these applicants for new or replacement SSN cards to start the application process on-line, receive a list of evidentiary documents, and then submit the application data to SSA for further processing by SSA employees. Applicants then visit a local SSA office to complete the application process. In some instances, SSA collects race and ethnicity information as part of the SSN card application process. Response to the race and ethnicity questions is voluntary. SSA plans to expand the EAB process to include SSA receipt of race and ethnicity information for the newborn and parent(s) when the parent(s) consent to release of this voluntary information. Obtaining parental consent for this new data will require States and Jurisdictions to add questions to collect a newborn's race and ethnicity information. This will also require BVS to electronically share the race and ethnicity of parent(s) and newborns, for instances when the record shows the state of jurisdiction obtained parental consent, consistent with the EAB process. The respondents for this information collection are applicants for original and replacement Social Security cards, or individuals who wish to change information in their SSN records, who use any of the modalities described above.

Type of Request: Revision of an OMB-approved information collection.

Application scenario | Number of respondents | Frequency of response | Average burden per response (minutes) | Estimated total annual burden (hours) | Average theoretical hourly cost amount (dollars) * | Average wait time in field office (minutes) ** | Total annual opportunity cost (dollars) ***
EAB Modality
Hospital staff who relay the State birth certificate information to the BVS and SSA through the EAB process | 3,759,517 | 1 | 5 | 313,293 | * $24.49 | ** 0 | *** $7,672,546
iSSNRC Modality
Adult U.S. Citizens requesting a replacement card with no changes through the iSSNRC | 3,002,698 | 1 | 5 | 250,225 | * 29.76 | ** 0 | *** 7,447,589
Adult U.S. Citizens requesting a replacement card with a name change through iSSNRC | 1,312 | 1 | 5 | 109 | * 29.76 | ** 0 | *** 3,244
oSSNAP Modality
Adult U.S. Citizens providing information to receive a replacement card through the oSSNAP + | 822,104 | 1 | 5 | 68,509 | * 29.76 | ** 24 | *** 11,825,136
Adult U.S. Citizens providing information to receive an original card through the oSSNAP + | 37,323 | 1 | 5 | 3,110 | * 29.76 | ** 24 | *** 536,841
Adult Non-U.S. Citizens providing information to receive an original card through the oSSNAP + | 204,081 | 1 | 5 | 17,007 | * 29.76 | ** 24 | *** 2,935,497
Adult Non-U.S. Citizens providing information to receive a replacement card through the oSSNAP+ | 84,635 | 1 | 5 | 7,053 | * 29.76 | ** 24 | *** 1,217,392
SSNAP/SS-5 Modality
Respondents who do not have to provide parents' SSNs | 6,973,505 | 1 | 9 | 1,046,026 | * 29.76 | ** 24 | *** 114,142,337
Respondents whom we ask to provide parents' SSNs (when applying for original SSN cards for children under age 12) | 207,521 | 1 | 9 | 31,128 | * 29.76 | ** 24 | *** 3,396,717
Applicants age 12 or older who need to answer additional questions so SSA can determine whether we previously assigned an SSN | 1,113,144 | 1 | 10 | 185,524 | * 29.76 | ** 24 | *** 18,772,072
Applicants asking for a replacement SSN card beyond the allowable limits (i.e., who must provide additional documentation to accompany the application) | 6,703 | 1 | 60 | 6,703 | * 29.76 | ** 24 | *** 279,268
Enumeration Quality Review
Authorization to SSA to obtain personal information cover letter | 500 | 1 | 15 | 125 | * 29.76 | ** 24 | *** 9,672
Authorization to SSA to obtain personal information follow-up cover letter | 500 | 1 | 15 | 125 | * 29.76 | ** 24 | *** 9,672
Grand Total
Totals | 16,213,543 |  |  | 1,928,937 |  |  | *** 168,247,983
+ The number of respondents for this modality is an estimate based on google analytics data for the SS-5 form downloads from SSA.Gov.
* We based this figure on average Hospital Records Clerks (https://www.bls.gov/oes/current/oes292098.htm), and average U.S. worker's hourly wages (https://www.bls.gov/oes/current/oes_nat.htm) as reported by the U.S. Bureau of Labor Statistics.
** We based this figure on the average FY 2023 wait times for field offices, based on SSA's current management information data.
*** This figure does not represent actual costs that SSA is imposing on recipients of Social Security payments to complete this application; rather, these are theoretical opportunity costs for the additional time respondents will spend to complete the application. There is no actual charge to respondents to complete the application.

2. Agreement to Sell Property—20 CFR 416.1240-416.1245—0960-0127. Individuals or couples who are otherwise eligible for SSI payments, but whose resources exceed the allowable limit, may receive conditional payments if they agree to dispose of the excess non-liquid resources and make repayments. SSA uses Form SSA-8060-U3 to document this agreement, and to ensure the individuals understand their obligations. Respondents are applicants for and recipients of SSI payments who will be disposing of excess non-liquid resources.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-8060-U3 (telephone interview) | 10,000 | 1 | 20 | 3,333 | * $29.76 | ** 19 | *** $193,440
SSA-8060-U3 (paper) | 10,000 | 1 | 20 | 3,333 | * 29.76 | ** 24 | *** 218,230
Total | 20,000 |  |  | 6,666 |  |  | *** 411,6710
* We based this figures on average U.S. citizen's hourly salary, as reported by Bureau of Labor Statistics data (https://www.bls.gov/oes/current/oes_nat.htm).
** We based this figure on the average FY 2023 wait times for field offices and teleservice centers, based on SSA's current management information data.
*** This figure does not represent actual costs that SSA is imposing on recipients of Social Security payments to complete this application; rather, these are theoretical opportunity costs for the additional time respondents will spend to complete the application. There is no actual charge to respondents to complete the application.

3. Work Activity Report (Self-Employment)—20 CFR 404.1520(b), 404.1571-404.1576, 404.1584-404.1593, and 416.971-416.976—0960-0598. SSA uses Form SSA-820-BK to determine initial or continuing eligibility for: (1) Title II SSDI; or (2) Title XVI SSI payments. Under Titles II and XVI of the Social Security Act, recipients receive disability benefits and SSI payments based on their inability to engage in substantial gainful activity (SGA) due to a physical or mental condition. Therefore, when the recipients resume work, they must report their work so SSA can evaluate and determine by law whether they continue to meet the disability requirements. SSA uses Form SSA-820-BK to obtain information on self-employment activities of Social Security Title II and XVI disability applicants and recipients. SSA uses the data we obtain to evaluate disability claims, and to help us determine if the claimant meets current disability provisions under Titles II and XVI. Since applicants for disability benefits or payments must prove an inability to perform any kind of SGA generally available in the national economy for which we expect them to qualify based on age, education, and work experience, any work an applicant performed until, or subsequent to, the date the disability allegedly began, affects our disability determination. The respondents are applicants and claimants for SSI payments or SSDI benefits.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-820-BK (in Office) | 12,144 | 1 | 30 | 6,072 | * $12.81 | ** 24 | *** $140,013
SSA-820-BK (phone) | 36,428 | 1 | 30 | 18,214 | * 12.81 | ** 19 | *** 381,085
SSA-820-BK (paper) | 48,571 | 1 | 30 | 24,286 | * 12.81 | 0 | *** 311,104
SSA-820-APP (online submission) | 2,857 | 1 | 30 | 1,429 | * 12.81 | 0 | *** 18,305
* We based this figure on average DI payments, as reported in SSA's disability insurance payment data (https://www.ssa.gov/legislation/2023factsheet.pdf).
** We based this figure on the average FY 2023 wait times for field offices and teleservice centers, based on SSA's current management information data.
*** This figure does not represent actual costs that SSA is imposing on recipients of Social Security payments to complete this application; rather, these are theoretical opportunity costs for the additional time respondents will spend to complete the application. There is no actual charge to respondents to complete the application.

4. Social Security's Public Credentialing and Authentication Process—20 CFR 401.45 and 402—0960-0789.

Background

Authentication is the foundation for secure, online transactions. Identity authentication is the process of determining, with confidence, that someone is who he or she claims to be during a remote, automated session. It comprises three distinct factors: something you know; something you have; and something you are. Single-factor authentication uses one of the factors, and multi-factor authentication uses two or more of the factors.

SSA's Public Credentialing and Authentication Process

SSA offers consistent authentication across SSA's secured online services. SSA allows our users to request and maintain only one User ID, consisting of a self-selected username and password, to access multiple Social Security electronic services. Designed in accordance with the OMB Memorandum M-04-04 and the National Institute of Standards and Technology (NIST) Special Publication 800-63, this process provides the means of authenticating users of our secured electronic services and streamlines access to those services. SSA's public credentialing and authentication process:

• Issues a single User ID to anyone who wants to do business with the agency and meets the eligibility criteria;

• Partners with an external Identity Services Provider (ISP) to help us verify the identity of our online customers;

• Complies with relevant standards;

• Offers access to some of SSA's most pertinent, but more sensitive, workloads online while providing a high level of confidence in the identity of the person requesting access to these services;

• Offers an in-person process for those who are uncomfortable with or unable to use the internet process;

• Balances security with ease of use; and

• Provides a user-friendly way for the public to conduct extended business with us online instead of visiting local servicing offices or requesting information over the phone. Individuals have real-time access to their Social Security information in a safe and secure web environment.

Public Credentialing and Authentication Process Features

SSA collects and maintains the users' personally identifiable information (PII) in our Central Repository of Electronic Authentication Data Master File Privacy Act system of records, which we published in the Federal Register (75 FR 79065). The PII may include the users' name; address; date of birth; SSN; phone number; and other types of identity information [e.g., address information of persons from the W-2 and Schedule Self Employed forms we receive electronically for our programmatic purposes as permitted by 26 U.S.C. 6103(l)(1)(A)]. SSA may also collect knowledge-based authentication data, which is information users establish with us or that we already maintain in our existing Privacy Act systems of records.

SSA retains the data necessary to administer and maintain our e-Authentication infrastructure. This includes management and profile information, such as blocked accounts; failed access data; effective date of passwords; and other data allowing us to evaluate the system's effectiveness. The data we maintain also may include archived transaction data and historical data. SSA uses the information from this collection to identity proof and authenticate our users online, and to allow them access to their personal information from our records. We also use this information to provide second factor authentication. SSA is committed to expanding and improving this process so we can grant access to additional online services in the future.

Offering online services is not only an important part of meeting SSA's goals, but is vital to good public service. In increasing numbers, the public expects to conduct complex business over the internet. Ensuring SSA's online services are both secure and user-friendly is our priority.

SSA awarded a competitively bid contract to an ISP, Equifax ¹, to help us verify the identity of our online customers. SSA uses this ISP, in addition to our other authentication methods, to help us prove, or verify, the identity of our customers when they are completing online or electronic transactions with us.

¹ Equifax is a data aggregator, and that their data helps SSA mitigate fraud.

Social Security's Authentication Strategy

SSA remains committed to enhancing our online services using authentication processes that balance usability and security. We will continue to research and develop new authentication tools while monitoring the emerging threats.

The following are key components of our authentication strategy:

• Enrollment and Identity Verification

Individuals who meet the following eligibility requirements may enroll:

○ Must have a valid email address;

○ Must have a valid SSN;

○ Must have a domestic address of record (includes military addresses); and

○ Must be at least 18 years of age.

We collect identifying data and use SSA and ISP records to verify an individual's identity. Individuals have the option of obtaining an enhanced, stronger, User ID by providing certain financial information (e.g., Medicare wages, self-employed earnings, or the last eight digits of a credit card number) for verification. We also ask individuals to answer out-of-wallet questions so we can further verify their identities. Individuals who are unable to complete the process online can present identification at a field office to obtain a User ID.

• Establishing the User Profile

The individual self-selects a username and password, both of which can be of variable length and alphanumeric. SSA provides a password strength indicator to help the individual select a strong password. We also ask the individual to choose challenge questions for use in restoring a lost or forgotten username or password.

• Provide a Second Factor

SSA asks the individual to provide a text message enabled cell phone number or an email address. We consider the cell phone number or email address the second factor of authentication. SSA sends a security code to the individual's selected second factor. We require the individual to confirm its receipt by entering the security code online. Subsequently, each time the individual attempts to sign in to his or her online account, we will also send a message with a one-time security code to the individual's selected second factor. The individual must enter the security code along with his or her username and password. The code is valid for only 10 minutes. If the individual does not enter the code within 10 minutes, the code expires, and the individual must request another code.

• Enhancing the User ID

If individuals opt to enhance or upgrade their User IDs, SSA requires them to provide certain financial information for verification. SSA mails a one-time-use upgrade code to the individual's verified residential address. When the individual receives the upgrade code in the mail, he or she can enter this code online to enhance the security of the account. With extra security, we continue to require the individuals to sign in using their username, password, and a one-time security code we send to their second factor email address or cell phone number (whichever the users listed in their account).

• Sign in and Use

SSA's authentication process provides an individual with a User ID for access to our sensitive online Social Security services. Second factor authentication requires the individual to sign in with a username, password, and a one-time security code sent to the individual's selected second factor. SSA expanded its existing capabilities to require second factor authentication for every online sign in. We also allow for maintenance of the second factor options. An individual who forgets the password can reset it automatically without contacting SSA.

Social Security's Enrollment Process

The enrollment process is a one-time only activity. SSA requires the individuals to agree to the “Terms of Service” detailed on our website before we allow them to begin the enrollment process. The “Terms of Service” inform the individuals what we will and will not do with their personal information, and the privacy and security protections we provide on all data we collect. These terms also detail the consequences of misusing this service. To verify the individual's identity, we ask the individual to give us minimal personal information, which may include:

• Name;

• SSN;

• Date of birth;

• Address—mailing and residential;

• Telephone number;

• Email address;

• Financial information;

• Cell phone number; and

• Selecting and answering password reset questions.

We send a subset of this information to the ISP, who then generates a series of out-of-wallet questions back to the individual. The individual must answer all or most of the questions correctly before continuing in the process. The exact questions generated are unique to each individual.

This collection of information, or a subset of it, is mandatory for respondents who want to do business with SSA via the internet. We collect this information via the internet, on SSA's public-facing website. SSA also offers an in-person identification verification process for individuals who cannot, or are not willing, to register online. For this process, the individual must go to a local SSA field office and provide identifying information. SSA does not ask for financial information with the in-person process.

SSA only collects the identity verification information one time, when the individual registers for a credential. We ask for the User ID (username and password) every time an individual signs in to our automated services. If individuals opt for the enhanced or upgraded account, they also either receive an email message or a text message on their cell phones (this serves as the second factor for authentication) each time they sign in.

The respondents are individuals who choose to use the internet or Automated Telephone Response System to conduct business with SSA.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
Internet Registrations | 11,788,914 | 1 | 8 | 1,571,855 | * $29.76 |  | $46,778,405
Internet Sign-Ins | 124,989,089 | 1 | 1 | 2,083,151 | * 29.76 |  | *** 6,194,574
Intranet Registration (RCS) | 54,908 | 1 | 8 | 7,321 | * 29.76 | ** 24 | *** 871,492
Totals | 136,832,911 |  |  | 3,662,327 |  |  | *** 53,844,471
* We based this figure on average U.S. citizen's hourly salary, as reported by Bureau of Labor Statistics data (https://www.bls.gov/oes/current/oes_nat.htm#00-0000).
** We based these figures on the average FY 2022 wait times for field offices, based on SSA's current management information data.
*** This figure does not represent actual costs that SSA is imposing on recipients of Social Security payments to complete this application; rather, these are theoretical opportunity costs for the additional time respondents will spend to complete the application. There is no actual charge to respondents to complete the application.

Dated: November 9, 2023.
Naomi Sipple,
Reports Clearance Officer, Social Security Administration.

[FR Doc. 2023-25167 Filed 11-14-23; 8:45 am]

BILLING CODE 4191-02-P